DEPARTMENT OF TRANSPORTATION

Coast Guard

33 CFR Part 100

[CGD 05-00-039]

Special Local Regulations for Marine Events; Hampton Bay Days Festival, Hampton River, Hampton, Virginia

AGENCY: Coast Guard, DOT.

ACTION: Notice of implementation.

SUMMARY: The Coast Guard is implementing the special local regulations at 33 CFR 100.508 for the Hampton Bay Days Festival to be held September 8-10, 2000 on the Hampton River at Hampton, Virginia. These special local regulations are necessary to control vessel traffic due to the confined nature of the waterway and expected vessel congestion during the festival events. The effect will be to restrict general navigation in the regulated area for the safety of event participants, spectators and vessels transiting the event area.

EFFECTIVE DATES: 33 CFR 100.508 is effective from 12 p.m. on September 8, 2000 to 6 p.m. on September 10, 2000.

FOR FURTHER INFORMATION CONTACT: Chief Petty Officer A. Walther, Marine Events Coordinator, Commander, Coast Guard Group Hampton Roads, 4000 Coast Guard Blvd., Portsmouth, VA 23703-2199, (757) 483-8567.

SUPPLEMENTARY INFORMATION: Hampton Bay Days, Inc. will sponsor the Hampton Bay Days Festival on September 8-10, 2000 on the Hampton River, Hampton, Virginia. The festival will include water ski demonstrations, personal watercraft and wake board competitions, paddle boat races, classic boat displays, fireworks displays and a helicopter rescue demonstration. In order to ensure the safety of participants, spectators and transiting vessels, 33 CFR 100.508 will be in effect for the duration of the festival activities. Under provisions of 33 CFR 100.508, vessels may not enter the regulated area without permission from the Coast Guard Patrol Commander, except that vessels may enter and anchor in the special spectator anchorage areas if they proceed at slow, no wake speed. The Coast Guard Patrol Commander will allow vessels to transit the regulated area between festival events. Because these restrictions will be in effect for a limited period, they should not result in a significant disruption of maritime traffic.

Dated: August 21, 2000.
T.C. Paar,
Captain, U.S. Coast Guard, Acting Commander, Fifth Coast Guard District.

[FR Doc. 00-22847 Filed 9-6-00; 8:45 am]

BILLING CODE 4910-15-U